DEPARTMENT OF LABOR

Employment and Training Administration

[TA-W-72,673]

Weather Shield Manufacturing, Medford, WI; Notice of Negative Determination Regarding Application for Reconsideration

By application dated August 12, 2010, the petitioners requested administrative reconsideration of the Department's negative determination regarding eligibility to apply for Trade Adjustment Assistance (TAA), applicable to workers and former workers of Weather Shield Manufacturing, Inc., Medford, Wisconsin (subject firm). The negative determination was signed on July 16, 2010. The Notice of determination was published in the Federal Register on August 2, 2010 (75 FR 45163). The petitioning worker group provides administrative support services related to the production of doors and windows at various Weather Shield Manufacturing, Inc. facilities.

Workers at Weather Shield Manufacturing, Inc., Medford, Wisconsin, who became totally or partially separated from employment on or after December 17, 2007 through August 9, 2012, are eligible to apply for TAA and alternative trade adjustment assistance under TA-W-64,725.

Pursuant to 29 CFR 90.18(c), reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The negative determination applicable to workers and former workers at the subject firm was based on the findings that the subject firm did not, during the period under investigation, shift to a foreign country services like or directly competitive with those supplied by the workers or acquire these services from a foreign country; that the workers' separation, or threat of separation, was not related to any increase in imports of like or directly competitive services; and that the workers did not supply a service that was directly used in the production of an article or the supply of service by a firm that employed a worker group that is eligible to apply for TAA based on the aforementioned article or service.

Additionally, the Department surveyed the subject firm's major declining customers regarding their purchases of doors and/or windows. The customer survey revealed that customer imports of articles like or directly competitive with those produced by the subject firm declined in the relevant time period, both in absolute terms and relative to the purchases of such articles from the subject firm.

In the request for reconsideration, the petitioner states that “Case number TA-W-72,673 is the same company and division as petition TA-64,725—Weather Shield Employees.”

The petition date of TA-W-64,725 is December 17, 2008. The petition date of TA-W-72,673 is October 23, 2009. Because the investigation periods in the two cases are different, the findings in TA-W-64,725 cannot be used as the basis for a certification of TA-W-72,673.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 10th day of September, 2010.
Del Min Amy Chen,
Certifying Officer, Office of Trade Adjustment Assistance.

[FR Doc. 2010-23502 Filed 9-20-10; 8:45 am]

BILLING CODE 4510-FN-P